DEPARTMENT OF COMMERCE

National Oceanic and Atmospheric Administration

[I.D. 071801E]

Endangered Species; Permits

AGENCY: National Marine Fisheries Service (NMFS), National Oceanic and Atmospheric Administration (NOAA), Commerce.

ACTION: Issuance of permit 1316; Issuance of modification #1 to permit 1299; and amendment #2 to permit 1133.

SUMMARY: Notice is hereby given of the following actions regarding permits for takes of endangered and threatened species for the purposes of scientific research and/or enhancement under the Endangered Species Act (ESA): NMFS has issued permit 1316 to Dr. Jeff Schmid, of The Conservancy of Southwest Florida; NMFS has issued modification #1 to permit #1299 to Dr. Raymond Carthy, of the Florida Cooperative Fish & Wildlife Research Unit; and NMFS has issued amendment #2 to permit #1133 to Dr. Andre Landry of Texas A&M University at Galveston.

ADDRESSES: The permits, applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Species Covered in This Notice

The following species are covered in this notice:

Sea turtles

Threatened and endangered Green turtle (Chelonia mydas)

Endangered Hawksbill turtle (Eretmochelys imbricata)

Endangered Kemp's ridley turtle (Lepidochelys kempii)

Threatened Loggerhead turtle (Caretta caretta)

Permits, Modified Permits and Amended Permits Issued

Permit #1316

Notice was published on May 21, 2001 (66 FR 27940), that Dr. Jeff Schmid, Conservancy of Southwest Florida applied for a scientific research permit (1316). The goal of this research is to characterize the essential habitat associations of subadult Kemp's ridley turtles in the nearshore waters of the upper Ten Thousand Islands. The objectives are: (1) to monitor the movements of Kemp’s ridley turtles via radio and sonic telemetry and to quantify their habitat utilization from the geographical position data, (2) to produce a geographic information system (GIS) database of benthic habitats and subsequently map the habitat types within the study area, and (3) to test for habitat preferences of Kemp’s ridley turtles in this region by comparing the amount of time a turtle spends in a given habitat relative to the availability of all other habitat types. Permit 1316 authorizes the non-lethal take of 20 Kemp's ridley turtle. After capture, the turtles will be handled, measured, flipper and PIT tagged, have a radio/sonic transmitter attached and be released near the capture site. Permit 1316 was issued on July 19, 2001, and expires July 31, 2006.

Permit #1299

Dr. Raymond Carthy, of the Florida Cooperative Fish & Wildlife Research Unit currently possesses a 3-year scientific research permit to non-lethally take up to 100 loggerhead, 100 green, and 100 Kemp's ridley sea turtles annually from St. Joseph Bay, Florida. Under permit #1299, Dr. Carthy is authorized to examine the internesting movements and habitat usage of adult loggerhead turtles along the northwestern coast of Florida, while also examining species composition, population densities and habitat utilization in coastal bays in the same area. Activities currently authorized under permit #1299 are: capture of turtles in tended, straight-set, large-mesh tangle nets. After capture turtles are weighed, measured, photographed, and flipper and PIT tagged, have a tissue sample collected and be released.

For modification #1, the permit holder is authorized to attach a time/depth recorder and a sonic/radio transmitter to a maximum of 3 green or loggerhead turtles (in aggregate) over the life of the permit. Modification #1 to Permit 1198 was issued on July 17, 2001, and expires December 31, 2003.

Permit #1133

Andre M. Landry currently possesses a 5-year scientific research permit to take listed sea turtles for the purpose of conducting studies on population status and recovery potential, habitat preference, movement and migration, foraging patterns, and impact of man's activities such as commercial and recreational fishing, dredging and habitat alteration/pollution. Dr. Landry is currently authorized to non-lethally take endangered green, Kemp's ridley and hawksbill and threatened loggerhead turtles annually from locations within the Western Gulf of Mexico, through the use of entanglement nets.

Due to a recent incidental mortality associated with the research, NMFS has amended permit 1133 to add a special condition to reduce the likelihood of additional mortalities associated with research activities in the Gulf of Mexico. Amendment #2 to Permit 1133 was issued on July 19, 2001, authorizing the continued non-lethal take of 100 green, 200 Kemp's ridley, 100 loggerhead and 20 hawksbill turtles annually. Permit 1133 expires January 31, 2003.

Dated: July 20, 2001.
Donna Brewer,
Acting Chief, Endangered Species Division, Office of Protected Resources, National Marine Fisheries Service.

[FR Doc. 01-18671 Filed 7-25-01; 8:45 am]

BILLING CODE 3510-22-S